DEPARTMENT OF THE INTERIOR

Bureau of Land Management

[18X LLWO600000.L18200000.XP0000]

National Call for Nominations for Site-Specific Advisory Councils

AGENCY: Bureau of Land Management, Interior.

ACTION: Notice of call for nominations.

SUMMARY: The purpose of this notice is to request public nominations to four of the Bureau of Land Management (BLM) citizens' advisory committees affiliated with specific sites on the BLM's National Conservation Lands. The four advisory committees provide advice and recommendations to the BLM on the development and implementation of management plans in accordance with the statutes under which the sites were established.

DATES: All nominations must be received no later than November 13, 2020.

ADDRESSES: Nominations and completed applications should be sent to the appropriate BLM offices listed in the SUPPLEMENTARY INFORMATION section of this notice.

FOR FURTHER INFORMATION CONTACT: Carrie Richardson, BLM Office of Communications, 1849 C Street NW, Room 5614, Washington, DC 20240; email: crichardson@blm.gov. Persons who use a telecommunications device for the deaf (TDD) may call the Federal Relay Service (FRS) at 1-800-877-8339 to contact Ms. Richardson during normal business hours. The FRS is available 24 hours a day, 7 days a week, to leave a message or question. You will receive a reply during normal business hours.

SUPPLEMENTARY INFORMATION: The Federal Land Policy and Management Act (FLPMA) directs the Secretary of the Interior to involve the public in planning and issues related to management of lands administered by the BLM. Section 309 of FLPMA (43 U.S.C. 1739) directs the Secretary to establish 10- to 15-member citizen-based advisory councils that are consistent with the Federal Advisory Committee Act. The rules governing advisory councils are found at 43 CFR subpart 1784.

Individuals may nominate themselves or others for appointment by the Secretary. The BLM will evaluate nominees based on their education, training, experience, and knowledge of the geographic area of the advisory council. Nominees should demonstrate a commitment to collaborative resource decision-making. Simultaneous with this notice, BLM State Offices will issue press releases providing additional information for submitting nominations.

Before including any address, phone number, email address, or other personal identifying information in the application, nominees should be aware this information may be made publicly available at any time. While the nominee can ask to withhold the personal identifying information from public review, the BLM cannot guarantee that it will be able to do so.

Oregon/Washington

San Juan Islands National Monument Advisory Committee (MAC)

Marcia deChadenèdes, BLM San Juan Islands National Monument Manager, P.O. Box 3, 37 Washburn Place, Lopez Island, WA 98261; Phone: (360) 468-3051.

To Apply to the San Juan Islands MAC: Nomination forms and instructions can be obtained online at https://www.blm.gov/sites/blm.gov/files/sanjuan-mac-app.pdf. All applications must be accompanied by letters of reference that describe the nominee's experience and qualifications to serve on the San Juan Islands MAC from any represented interests or organizations, a completed MAC application, and any other information that speaks to the nominee's qualifications. The MAC consists of 12 members that include two representatives of recreation and tourism interests; two representatives of wildlife and ecological interests; two representatives of cultural and heritage interests; two public-at-large representatives; one representative of Tribal interests; one representative of local government; one representative of education and interpretation interests; and one representative of private landowners.

Steens Mountain Advisory Council (SMAC)

Tara Thissell, BLM Burns District Office, 28910 Hwy 20 West, Hines, OR 97738; Phone: (541) 573-4519.

To Apply to the SMAC: Nomination forms and instructions can be obtained by mail through phone request or online at https://www.blm.gov/sites/blm.gov/files/1120-019_0.pdf. All applications must be accompanied by letters of reference that describe the nominee's experience and qualifications to serve on the SMAC from any represented interests or organizations, a completed SMAC application, and any other information that speaks to the nominee's qualifications. The SMAC consists of 13 members that include a private landowner in the Steens Mountain Cooperative Management and Protection Area (CMPA) appointed from nominees submitted by the County Court for Harney County, Oregon; two representatives who are grazing permittees on Federal lands in the CMPA, appointed from nominees submitted by the County Court for Harney County, Oregon; a representative interested in fish and recreational fishing in the CMPA, appointed from nominees submitted by the Governor of Oregon; a representative of the Burns Paiute Tribe, appointed from nominees submitted by the Burns Paiute Tribe; two representatives who are recognized environmental representatives, one of whom shall represent the State as a whole, and one of whom is from the local area, appointed from nominees submitted by the Governor of Oregon; a representative who participates in what is commonly called dispersed recreation, such as hiking, camping, nature viewing, nature photography, bird watching, horseback riding, or trail walking, appointed from nominees submitted by the Oregon State Director of BLM; a representative who is a recreational permit holder or is a representative of a commercial recreation operation in the CMPA, appointed from nominees submitted jointly by the Oregon State Director of BLM and the County Court for Harney County, Oregon; a representative who participates in what is commonly called mechanized or consumptive recreation, such as hunting, fishing, off-road driving, hang gliding, or parasailing, appointed from nominees submitted by the Oregon State Director of BLM; a representative with expertise and interest in wild horse management on Steens Mountain, appointed from nominees submitted by the Oregon State Director of BLM; a representative who has no financial interest in the CMPA to represent statewide interests, appointed from nominees submitted by the Governor of Oregon; and one non-voting representative nominated by the Governor of Oregon, to serve as the State government liaison to the Council.

Utah

Bears Ears National Monument Advisory Committee (MAC)

Lynn McAloon, BLM Canyon Country District Office, 82 East Dogwood, Moab, UT 84532; phone: (435) 259-2187.

To Apply to the Bears Ears MAC: Nomination forms and instructions are available online at https://www.blm.gov/sites/blm.gov/files/1120-019_0.pdf.

Nominees should note the interest area(s) they are applying to represent on their application. All applications must be accompanied by letters of reference that describe the nominee's experience and qualifications to serve on the Bears Ears MAC from any represented interests or organizations, a completed MAC application, and any other information that speaks to the nominee's qualifications. The MAC consists of 15 members that include an elected official from San Juan County representing the County; a representative of State government; a representative with paleontological expertise; a representative with archaeological or historic expertise; a representative of the conservation community; a representative of livestock grazing permittees within the Monument; two representatives of Tribal interests; two representatives of developed outdoor recreation, off-highway vehicle users, or commercial recreation activities, including, for example, commercial/charter or recreation fishing; a representative of dispersed recreational activities, including, for example, hunting and shooting sports; a representative of private landowners; a representative of local business owners; and, two representatives of the public-at-large, including, for example, sportsmen and sportswomen communities.

Grand Staircase-Escalante National Monument Advisory Committee (MAC)

David Hercher, BLM Paria River District Office, 669 South Highway 89A, Kanab, UT 84741; phone: (435) 644-1209.

To Apply to the Grand Staircase-Escalante MAC: Nomination forms and instructions are available online at https://www.blm.gov/sites/blm.gov/files/1120-019_0.pdf.

Nominees should note the interest area(s) they are applying to represent on their application. All applications must be accompanied by letters of reference that describe the nominee's experience and qualifications to serve on the Grand Staircase-Escalante MAC from any represented interests or organizations, a completed MAC application, and any other information that speaks to the nominee's qualifications. The MAC consists of 15 members that include an elected official from Garfield County representing the County; an elected official from Kane County representing the County; a representative of State government; a representative of Tribal government with ancestral interest in the Monument; a representative of the educational community; a representative of the conservation community; a representative of developed outdoor recreation, off-highway vehicle users, or commercial recreation activities, including, for example, an outfitter or guide operating within the monument; a representative of dispersed recreation; a livestock grazing permittee operating within the Monument to represent grazing permittees; a representative of private landowners; a representative of local business owners; and a representative of the public-at- large, including, for example, sportsmen and sportswomen communities. Additionally, three representatives are appointed as special Government employees, one for each of the following areas of expertise: a representative with expertise in systems ecology; a representative with expertise in paleontology; and a representative with expertise in archaeology or history.

As appropriate, certain MAC members may be appointed as special Government employees (SGEs). Please be aware that applicants selected to serve as SGEs will be required, prior to appointment, to file a Confidential Financial Disclosure Report in order to avoid involvement in real or apparent conflicts of interest. You may find a copy of the Confidential Financial Disclosure Report at the following Web site: https://www.doi.gov/ethics/oge-form-450. Additionally, after appointment, members appointed as SGEs will be required to meet applicable financial disclosure and ethics training requirements. Please contact (202) 202-208-7960 or DOI_Ethics@sol.doi.gov with any questions about the ethics requirements for members appointed as SGEs.

(Authority: 43 CFR 1784.4-1)

Matthew Buffington,
Assistant Director for Communications.

[FR Doc. 2020-22701 Filed 10-13-20; 8:45 am]

BILLING CODE 4310-84-P